DEPARTMENT OF HEALTH AND HUMAN SERVICES

Centers for Disease Control and Prevention

Request for Nominations of Candidates To Serve on the Advisory Committee to the Director, Centers for Disease Control and Prevention (ACD, CDC)

The Centers for Disease Control and Prevention (CDC) is soliciting nominations for possible membership on the ACD, CDC. ACD, CDC consists of 15 experts in fields related to health policy, public health, global health, preparedness, preventive medicine, the faith-based and community-based sector, and allied fields, who are selected by the Secretary of the U.S. Department of Health and Human Services (HHS). The committee advises the HHS Secretary and the CDC Director concerning policy and broad strategies that will enable CDC to fulfill its mission of protecting health through health promotion, prevention, and preparedness. The committee recommends ways to prioritize CDC's activities, improve results, and address health disparities. It also provides guidance to help CDC work more effectively with its various private and public sector constituents to make health protection a practical reality.

Nominations are being sought for individuals who have the expertise and qualifications necessary to contribute to accomplishment of the committee's objectives. Nominees will be selected by the HHS Secretary or designee from authorities knowledgeable in the fields of public health as well as from the general public. Federal employees will not be considered for membership. Members may be invited to serve for terms of up to four years.

The U.S. Department of Health and Human Services policy stipulates that committee membership be balanced in terms of points of view represented and the committee's function. Consideration will be given to a broad representation of geographic areas. Appointments shall be made without discrimination on the basis of age, race, ethnicity, gender, sexual orientation, gender identity, HIV status, disability, and cultural, religious, or socioeconomic status. Nominees must be U.S. citizens and cannot be full-time employees of the U.S. Government. Current participation on federal workgroups or prior experience serving on a federal advisory committee does not disqualify a candidate; however, HHS policy is to avoid excessive individual service on advisory committees and multiple committee memberships. Committee members are Special Government Employees, requiring the filing of financial disclosure reports at the beginning and annually during their terms. CDC reviews potential candidates for ACD, CDC membership each year and provides a slate of nominees for consideration to the Secretary of HHS for final selection. HHS notifies selected candidates of their appointment near the start of the term in July 2017 or as soon as the HHS selection process is completed. Note that the need for different expertise varies from year to year and a candidate who is not selected in one year may be reconsidered in a subsequent year.

Nominees must be U.S. citizens and cannot be full-time employees of the U.S. Government. Candidates should submit the following items:

• Current curriculum vitae, including complete contact information (name, affiliation, mailing address, telephone number, and email address);

• A letter of recommendation stating the qualifications of the candidate.

Nomination materials must be postmarked by August 12, 2016 and sent to ACDirector@cdc.gov, or to Tracie Strength, Office of the Chief of Staff, Centers for Disease Control and Prevention, 1600 Clifton Road NE., Mailstop D14, Atlanta, Georgia, 30329. Please direct questions to Tracie at (404) 498-6482.

The Director, Management Analysis and Services Office, has been delegated the authority to sign Federal Register notices pertaining to announcements of meetings and other committee management activities for both the Centers for Disease Control and Prevention and the Agency for Toxic Substances and Disease Registry.

Catherine Ramadei,
Acting Director, Management Analysis and Services Office, Centers for Disease Control and Prevention.

[FR Doc. 2016-17794 Filed 7-27-16; 8:45 am]

BILLING CODE 4163-18-P